DEPARTMENT OF COMMERCE

National Oceanic and Atmospheric Administration

RIN 0648-XF997

Western Pacific Fishery Management Council; Public Meetings

AGENCY: National Marine Fisheries Service (NMFS), National Oceanic and Atmospheric Administration (NOAA), Commerce.

ACTION: Notice of public meetings.

SUMMARY: The Western Pacific Fishery Management Council (Council) will hold a meeting of its Mariana Archipelago Ecosystem Plan (FEP) Advisory Panels (AP) to discuss and make recommendations on fishery management issues in the Western Pacific Region.

DATES: The CNMI Mariana Archipelago FEP AP will meet on Thursday, February 22, 2018, between 6 p.m. and 8 p.m. The Guam Mariana Archipelago FEP AP will meet on Friday, February 23, 2018, between 6 p.m. and 7:30 p.m. All times listed are local island times. For specific times and agendas, see SUPPLEMENTARY INFORMATION.

ADDRESSES:

Meeting address: The CNMI Mariana Archipelago FEP AP will meet at the Micronesian Environmental Services Conference Room, Garapan, Saipan, CNMI 96950. The Guam Mariana Archipelago FEP AP will meet at the Guam Fishermen's Cooperative Association Lanai, Hagatna, Guam 96913.

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the CNMI Mariana Archipelago FEP AP Meeting

Thursday, February 22, 2018, 6 p.m.-8 p.m.

1. Welcome and Introductions

2. Report on Previous Council Action Items

3. Council Issues

A. Action Items

i. Precious Corals Essential Fish Habitat Refinement Options

ii. Options for an Aquaculture Management Program

iii. U.S. Territory Longline Bigeye Specification

B. Other Council Issues

4. CNMI Mariana Archipelago FEP Community Activities

5. CNMI Mariana Archipelago FEP AP Issues

A. Report of the Subpanels

i. Island Fisheries Subpanel

ii. Pelagic Fisheries Subpanel

iii. Ecosystems and Habitat Subpanel

iv. Indigenous Fishing Rights Subpanel

B. Other Issues

6. Public Comment

7. Discussion and Recommendations

8. Other Business

Schedule and Agenda for the Guam Mariana Archipelago FEP AP Meeting

Friday, February 23, 2018, 6 p.m.-7:30 p.m.

1. Welcome and Introductions

2. Report on Previous Council Action Items

3. Council Issues

A. Action Items

i. Precious Corals Essential Fish Habitat Refinement Options

ii. Options for an Aquaculture Management Program

iii. U.S. Territory Longline Bigeye Specification

B. Other Council Issues

4. Guam Mariana Archipelago FEP Community Activities

5. Guam Mariana Archipelago FEP AP Issues

A. Report of the Subpanels

i. Island Fisheries Subpanel

ii. Pelagic Fisheries Subpanel

iii. Ecosystems and Habitat Subpanel

iv. Indigenous Fishing Rights Subpanel

B. Other Issues

6. Public Comment

7. Discussion and Recommendations

8. “At the End of the Day”—Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 5, 2018.
Tracey L. Thompson,
Acting Deputy Director, Office of Sustainable Fisheries, National Marine Fisheries Service.

[FR Doc. 2018-02509 Filed 2-7-18; 8:45 am]

BILLING CODE 3510-22-P